DEPARTMENT OF ENERGY

Federal Energy Regulatory Commission

Combined Notice of Filings #1

Take notice that the Commission received the following electric corporate filings:

Docket Numbers: EC21-85-000.

Applicants: Sempra Energy, Energia Sierra Juarez U.S., LLC, Energia Sierra Juarez 2 U.S., LLC, Energia Sierra Juarez U.S. Transmission, LLC, Termoelectrica U.S., LLC, Sempra Gas & Power Marketing, LLC, KKR Pinnacle Aggregator L.P.

Description: Application for Authorization Under Section 203 of the Federal Power Act of Sempra Energy, et al.

Filed Date: 4/30/21.

Accession Number: 20210430-5495.

Comments Due: 5 p.m. ET 5/21/21.

Take notice that the Commission received the following electric rate filings:

Docket Numbers: ER21-1813-001.

Applicants: Yellow Pine Energy Center I, LLC.

Description: Tariff Amendment: Amendment to Yellow Pine Energy Center I, LLC Application for MBR Authorization to be effective 7/1/2021.

Filed Date: 5/3/21.

Accession Number: 20210503-5065.

Comments Due: 5 p.m. ET 5/24/21.

Docket Numbers: ER21-1814-001.

Applicants: Yellow Pine Energy Center II, LLC.

Description: Tariff Amendment: Amendment to Yellow Pine Energy Center II, LLC Application for MBR Authorization to be effective 7/1/2021.

Filed Date: 5/3/21.

Accession Number: 20210503-5067.

Comments Due: 5 p.m. ET 5/24/21.

Docket Numbers: ER21-1819-000.

Applicants: Southwest Power Pool, Inc.

Description: § 205(d) Rate Filing: 1166R35 Oklahoma Municipal Power Authority NITSA and NOA to be effective 4/1/2021.

Filed Date: 5/3/21.

Accession Number: 20210503-5025.

Comments Due: 5 p.m. ET 5/24/21.

Docket Numbers: ER21-1820-000.

Applicants: Midcontinent Independent System Operator, Inc.

Description: § 205(d) Rate Filing: 2021-05-03_SA 3481 ATC-Richland County Solar 1st Rev GIA (J864) to be effective 4/22/2021.

Filed Date: 5/3/21.

Accession Number: 20210503-5027.

Comments Due: 5 p.m. ET 5/24/21.

Docket Numbers: ER21-1822-000.

Applicants: GridLiance High Plains LLC.

Description: Request for Approval of Revised Depreciation Rates to Transmission Rates of GridLiance High Plains LLC.

Filed Date: 4/30/21.

Accession Number: 20210430-5612.

Comments Due: 5 p.m. ET 5/21/21.

Docket Numbers: ER21-1823-000.

Applicants: American Electric Power Service Corporation, Indiana Michigan Power Company, AEP Indiana Michigan Transmission Company, Inc., PJM Interconnection, L.L.C.

Description: § 205(d) Rate Filing: AEP submits Two FAs re: ILDSA No. 4234 to be effective 7/3/2021.

Filed Date: 5/3/21.

Accession Number: 20210503-5038.

Comments Due: 5 p.m. ET 5/24/21.

Docket Numbers: ER21-1824-000.

Applicants: AEP Texas Inc.

Description: § 205(d) Rate Filing: AEPTX-STEC (North Edinburg 138) Facility Development Agreement to be effective 4/27/2021.

Filed Date: 5/3/21.

Accession Number: 20210503-5040.

Comments Due: 5 p.m. ET 5/24/21.

Docket Numbers: ER21-1825-000.

Applicants: AEP Texas Inc.

Description: § 205(d) Rate Filing: AEPTX-STEC (Sunniland) Facilities Development Agreement to be effective 4/27/2021.

Filed Date: 5/3/21.

Accession Number: 20210503-5041.

Comments Due: 5 p.m. ET 5/24/21.

Docket Numbers: ER21-1826-000.

Applicants: Alabama Power Company.

Description: § 205(d) Rate Filing: Cooperative Energy NITSA 2021 Rollover Filing to be effective 4/1/2021.

Filed Date: 5/3/21.

Accession Number: 20210503-5057.

Comments Due: 5 p.m. ET 5/24/21.

Docket Numbers: ER21-1827-000.

Applicants: PacifiCorp.

Description: § 205(d) Rate Filing: Tri-State NITSA Rev 10 to be effective 7/1/2021.

Filed Date: 5/3/21.

Accession Number: 20210503-5058.

Comments Due: 5 p.m. ET 5/24/21.

Docket Numbers: ER21-1828-000.

Applicants: Entergy Arkansas, LLC, Entergy Louisiana, LLC, Entergy Mississippi, LLC, Entergy New Orleans, LLC, Entergy Texas, Inc.

Description: Annual Informational Filing regarding Prepaid Pension Cost and Accrued Pension Cost of Entergy Arkansas, LLC, et al.

Filed Date: 4/30/21.

Accession Number: 20210430-5694.

Comments Due: 5 p.m. ET 5/21/21.

Docket Numbers: ER21-1831-000.

Applicants: Shasta-Sustainable Resource Management, Inc.

Description: Compliance filing: Non-Material Change in Status, Notice of Succession, and New eTariff Baseline to be effective 5/4/2021.

Filed Date: 5/3/21.

Accession Number: 20210503-5077.

Comments Due: 5 p.m. ET 5/24/21.

Take notice that the Commission received the following electric securities filings:

Docket Numbers: ES21-45-000.

Applicants: Ameren Transmission Company of Illinois.

Description: Application under Section 204 of the Federal Power Act for Authorization to Issue Securities of Ameren Services Company.

Filed Date: 4/30/21.

Accession Number: 20210430-5509.

Comments Due: 5 p.m. ET 5/21/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2021.
Kimberly D. Bose,
Secretary.

[FR Doc. 2021-09724 Filed 5-6-21; 8:45 am]

BILLING CODE 6717-01-P